DEPARTMENT OF COMMERCE

National Oceanic and Atmospheric Administration

[Docket No. 030602141-3271-04]

Availability of Grants Funds for Fiscal Year 2004

AGENCY: National Sea Grant College Program, National Oceanic and Atmospheric Administration, Department of Commerce.

ACTION: Notice of extension of application deadline.

SUMMARY: The National Oceanic and Atmospheric Administration (NOAA) published a document in the Federal Register of October 17, 2003 (68 FR 59778), concerning the availability of NOAA grant funds for fiscal year 2004. NOAA publishes this notice to announce that the Sea Grant—Industry Fellowship Program, a Fellowship program initiated by the National Sea Grant Office (NSGO), National Oceanic and Atmospheric Administration (NOAA), has extended their submission date for applications. The submission date for applications for the Sea Grant—Industry Fellowship Program has been extended to February 3, 2004, to allow applicants more time to submit their applications. All applications must be received by 5 p.m. (local time) on February 3, 2004, by a State Sea Grant Program or by the National Sea Grant Office (NSGO) in the case of an institution of higher education in a non-Sea Grant State. Applications are to be forwarded to the NSGO by the State Sea Grant Programs by 5 p.m. e.s.t. on February 10, 2004. All other program requirements and information published in the October 17, 2003 notice remain the same.

DATES: All applications must be received by 5 p.m. (local time) on February 3, 2004, by a State Sea Grant Program or by the National Sea Grant Office (NSGO) in the case of an institution of higher education in a non-Sea Grant State.

ADDRESSES: For a list of addresses, please read the full notice. A copy of the full notice can be found at: http://www.ofa.noaa.gov/%7Egrants/fbo/Oct-OAR-Industry-Fellow.pdf.

FOR FURTHER INFORMATION CONTACT: Ms. Nikola Garber, 301-713-2431 ext. 124; e-mail: nikola.garber@noaa.gov.

Dated: November 4, 2003.
Louisa Koch,
Deputy Assistant Administrator, Office of Oceanic and Atmospheric Research, National Oceanic and Atmospheric Administration.

[FR Doc. 03-28271 Filed 11-10-03; 8:45 am]

BILLING CODE 3510-KA-M